SMALL BUSINESS ADMINISTRATION

National Women's Business Council; Notice of Public Meeting

AGENCY: Small Business Administration, National Women's Business Council.

ACTION: Notice of open public meeting.

DATES: The public meeting will be held on Friday, May 17, 2019 from 9:30 a.m. to 12:30 p.m. EST.

ADDRESSES: The meeting will be held at the Women Presidents' Organization Headquarters located at 155 E 55th Street, Suite 4H, New York, NY 10022.

FOR FURTHER INFORMATION CONTACT: The meeting is open to the public; however, advance notice of attendance is requested. To RSVP or submit a written comment, the general public should email Ashley Judah at Ashley.Judah@sba.gov with subject line—“Response for 5/17/19 Public Meeting.” The agenda will allow for 20 minutes of public statements. This time will be awarded in 4-minute increments to the first 5 people who confirm attendance and request to speak. All other submitted statements will be included in the meeting record.

A conference line will be available for those unable to attend the meeting. Please call 1-208-391-5817 at the aforementioned event time. When prompted, enter conference ID number 93326369. For more information, please visit the NWBC website at www.nwbc.gov or call 202-205-3850.

SUPPLEMENTARY INFORMATION: Pursuant to section 10(a)(2) of the Federal Advisory Committee Act (5 U.S.C., Appendix 2), the National Women's Business Council (NWBC) announces its second public meeting of Fiscal Year 2019. The 1988 Women's Business Ownership Act established NWBC to serve as an independent source of advice and policy recommendations to the President, Congress, and the Administrator of the U.S. Small Business Administration (SBA) on issues of importance to women entrepreneurs.

This meeting will allow the newly formed Council to share its vision for the remainder of the fiscal year. Each of the Council's three subcommittees (Rural Women's Entrepreneurship, Women in S.T.E.M., and Access to Capital & Opportunity) will present their current priorities and initiatives to the full body.

Dated: April 30, 2019.
Nicole Nelson,
Committee Management Officer (Acting).

[FR Doc. 2019-09140 Filed 5-3-19; 8:45 am]

BILLING CODE 8025-01-P